DEPARTMENT OF ENERGY

Federal Energy Regulatory Commission

[Docket No. PR01-18-000]

Northwest Natural Gas Company; Notice of Rate Election

August 8, 2001.

Take notice that on July 18, 2001, Northwest Natural Gas Company (NW Natural) filed, pursuant to Section 284.123(b)(2) of the Commission's regulations, an election setting forth proposed rates for bundled firm and interruptible storage and related transportation services in interstate commerce. NW Natural states that its petition for rate approval has been filed in compliance with the Commission's May 17, 2001, order in Docket No. CP00-138-000 granting NW Natural a limited jurisdiction blanket certificate of public convenience and necessity to provide these services under Section 284.224 of the Commission's regulations.

Based on a straight fixed variable rate design, NW Natural proposes a cost-based firm maximum reservation rate of $4.9361 per Dth per month based on maximum daily deliverability for storage withdrawals and a maximum reservation rate of $0.0722 per Dth per month based on maximum storage capacity. NW Natural also proposes maximum cost-based rates for interruptible storage and related transportation services and for authorized overrun service of $0.2275 per Dth. Fuel and tax reimbursement charges are also specified for the FERC jurisdictional services. NW Natural requests that the Commission expedite its review of the proposed rates.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before August 23, 2001. This petition for rate approval is on file with the Commission and is available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20338 Filed 8-13-01; 8:45 am]

BILLING CODE 6717-01-P